Proclamation 10013 of April 17, 2020

Days of Remembrance of Victims of the Holocaust, 2020

By the President of the United States of America

A Proclamation

Our Nation's annual observance of Yom HaShoah, Holocaust Remembrance Day, calls on all Americans to pause and reflect on the horrific atrocities committed by the Nazi regime against minority groups and other “undesirables” in the years leading up to and during World War II. Among those murdered in the Holocaust were 6 million Jewish men, women, and children who became victims of the Third Reich's unthinkably evil “Final Solution.” As this year's Yom HaShoah commences, let us remember the millions of lives extinguished in the Holocaust, including those of Jewish, Polish, and Slavic ancestry, Roma and Sinti, individuals with mental and physical disabilities, gays, political dissidents, and dozens of other groups, and let us reaffirm our commitment to preserving and carrying forward their stories so that such repugnant acts of evil never occur again.

This year's observance is particularly meaningful as earlier in the year we observed the 75th anniversary of the liberation of Auschwitz and other Nazi concentration camps throughout Europe. We must never forget the abhorrent anti-Semitism, racial hatred, and discrimination stoked by the Nazi regime and its accomplices and enablers that sent countless people to ghettos, concentration camps, killing fields, and death camps—a monstrous system that resulted in the murder of two out of three Jews in Europe and the imprisonment and torture of millions more.

Tragically, far too many Americans of Jewish faith still face persecution. That is why I issued an Executive Order in December of 2019 to further expand and strengthen my Administration's ongoing efforts to combat racist and anti-Semitic discrimination. We must always condemn and confront all forms of racial, religious, and ethnic prejudice, discrimination, and hatred and strengthen the mutual bonds of respect that unite us all as Americans.

During this time, as we mourn the millions of lives tragically lost during this dark stain on human history, we vow to ensure that future generations know the horrors of the Holocaust so that its crimes are never repeated. We also remember the powerful example that countless victims set through their remarkable determination, courage, and devotion. Together, let us resolve to build a society that always values the sanctity of every human life and the dignity of every faith. In doing so, we will make certain that freedom and liberty always triumph over evil and oppression.

NOW, THEREFORE, I, DONALD J. TRUMP, President of the United States of America, do hereby ask the people of the United States to observe the Days of Remembrance of Victims of the Holocaust, April 19 through April 26, 2020, and the solemn anniversary of the liberation of Nazi death camps, with appropriate study, prayers and commemoration, and to honor the memory of the victims of the Holocaust and Nazi persecution by remembering the lessons of this atrocity so that it is never repeated.

IN WITNESS WHEREOF, I have hereunto set my hand this seventeenth day of April, in the year of our Lord two thousand twenty, and of the Independence of the United States of America the two hundred and forty-fourth.

[FR Doc. 2020-08843

Filed 4-22-20; 11:15 am]

Billing code 3295-F0-P